DEPARTMENT OF LABOR

Employment and Training Administration

[TA-W-59,617]

Rosemount Analytical, Inc., Process Analytic Division, Irvine, CA; Notice of Termination of Investigation

Pursuant to Section 221 of the Trade Act of 1974, as amended, an investigation was initiated on June 23, 2006 in response to a worker petition filed by a company official on behalf of workers at Rosemount Analytical, Inc., Process Analytic Division, Irvine, California.

The petitioner has requested that the petition be withdrawn. Consequently, the investigation has been terminated.

Signed at Washington, DC, this 10th day of July, 2006.
Elliott S. Kushner,
Certifying Officer, Division of Trade Adjustment Assistance.

[FR Doc. E6-13059 Filed 8-9-06; 8:45 am]

BILLING CODE 4510-30-P